SECURITIES AND EXCHANGE COMMISSION

[Release No. 34-76251; File No. SR-CBOE-2015-026]

Self-Regulatory Organizations; Chicago Board Options Exchange, Incorporated; Notice of Withdrawal of a Proposed Rule Change Relating to Rules 6.74A and 6.74B

October 23, 2015.

On March 6, 2015, the Chicago Board Options Exchange, Incorporated (the “Exchange” or “CBOE”) filed with the Securities and Exchange Commission (“Commission”), pursuant to Section 19(b)(1) of the Securities Exchange Act of 1934 ¹ and Rule 19b-4 thereunder,² a proposed rule change to amend its rules regarding the solicitation of Market-Makers as the contra party to an agency order entered into the Exchange's Automated Improvement Mechanism and Solicitation Auction Mechanism auctions. The proposed rule change was published for comment in the Federal Register on March 23, 2015.³ On May 4, 2015, the Commission extended the time period within which to approve the proposed rule change, disapprove the proposed rule change, or institute proceedings to determine whether to disapprove the proposed rule change, to June 21, 2015.⁴ On June 18, 2015, the Commission instituted proceedings to determine whether to approve or disapprove the proposed rule change.⁵ On July 21, 2015, the Commission received a letter from the Exchange responding to the Order Instituting Proceedings.⁶ Subsequently, the Commission received two other comment letters on the proposed rule change.⁷ On September 14, 2015, the Commission issued a notice of designation of a longer period for Commission action on proceedings to determine whether to approve or disapprove the proposed rule change.⁸ On October 22, 2015, CBOE withdrew the proposed rule change (SR-CBOE-2015-026).

¹ 15 U.S.C. 78s(b)(1).

² 17 CFR 240.19b-4.

³ See Securities Exchange Act Release No. 74519 (March 17, 2015), 80 FR 15264.

⁴ See Securities Exchange Act Release No. 74862 (May 4, 2015), 80 FR 26599 (May 8, 2015).

⁵ See Securities Exchange Act Release No. 75245 (June 18, 2015), 80 FR 36386 (June 24, 2015) (“Order Instituting Proceedings”).

⁶ See Letter to Brent J. Fields, Secretary, Commission, from Kyle Edwards, Attorney, CBOE, dated July 21, 2015.

⁷ See Letter to Brent J. Fields, Secretary, Commission, from Gavin Rowe, Senior Director, Dash Financial LLC, dated August 11, 2015; Letter to Brent J. Fields, Secretary, Commission, from Benjamin Londergan, Executive Managing Director, Convergex Execution Solutions, dated September 15, 2015.

⁸ See Securities Exchange Act Release No. 75908 (September 14, 2015), 80 FR 56525 (September 18, 2015).

For the Commission, by the Division of Trading and Markets, pursuant to delegated authority.⁹
⁹ 17 CFR 200.30-3(a)(12).
Robert W. Errett,
Deputy Secretary.

[FR Doc. 2015-27520 Filed 10-28-15; 8:45 am]

BILLING CODE 8011-01-P